DEPARTMENT OF TRANSPORTATION

Coast Guard

46 CFR Parts 71, 115, 126, 167, 169 and 176

[USCG-2000-6858]

RIN 2115-AF95

Alternate Hull Examination Program for Certain Passenger Vessels, and Underwater Surveys for Nautical School, Offshore Supply, Passenger and Sailing School Vessels

AGENCY: Coast Guard, DOT.

ACTION: Interim rule; announcement of effective date.

SUMMARY: Coast Guard is announcing the approval of a collection-of-information requirement for vessel owners or operators to send applications, hull exam reports, hull condition assessments, and preventive maintenance plans to the Coast Guard in order to participate in the Alternative Hull Exam and UWILD Programs.

DATES: 46 CFR 71.50-5(b), 71.50-23(b), 71.50-29(b), 71.50-31(b), 71.50-31(c), and 71.50-31(d)(1); 115.615(b), 115.630, 115.640(b), 115.655(a), 115.655(b), 115.660(c), and 115.660(d); 126.140(f), 126.140(g)(1), and 126.140(g)(3); 176.615(c), 176.615(c), 176.630, 176.640(b), 176.655(a), 176.660(b), 176.660(c), and 176.660(d)(1); as published April 29, 2002 (67 FR 21062), are effective August 28, 2002.

FOR FURTHER INFORMATION CONTACT: If you have questions on this document, call Don Darcy, Office of Standards Evaluation and Development (G-MSR), Coast Guard, at 202-267-1200. If you have questions on viewing the docket, call Dorothy Beard, Chief, Dockets, Department of Transportation, telephone 202-366-5149.

SUPPLEMENTARY INFORMATION: The interim rule published in the Federal Register on April 29, 2002, at 67 FR 21062 became effective on June 28, 2002, except for revised 46 CFR 71.50-5(b), 71.50-23(b), 71.50-29(b), 71.50-31(b), 71.50-31(c), and 71.50-31(d)(1); 115.615(b), 115.630, 115.640(b), 115.655(a), 115.655(b), 115.660(c), and 115.660(d); 126.140(f), 126.140(g)(1), and 126.140(g)(3); 167.15-33(b) and 167.15-33(c); 169.230(b) and 169.230(c); 176.615(b), 176.615(c), 176.630, 176.640(b), 176.655(a), 176.660(b), 176.660(c), and 176.660(d)(1). These parts contained collection-of-information requirements. These parts could not become effective until its collection-of-information requirement was approved by the Office of Management and Budget (OMB). Those parts were approved by OMB in control no. 2115-0133 on June 24, 2002, and are effective August 28, 2002.

Dated: August 23, 2002.
Joseph J. Angelo,
Director of Standards, Marine Safety, Security & Environmental Protection.

[FR Doc. 02-21983 Filed 8-27-02; 8:45 am]

BILLING CODE 4910-15-P